DEPARTMENT OF THE INTERIOR

Minerals Management Service

Gulf of Mexico (GOM), Outer Continental Shelf (OCS), Central Planning Area (CPA), Oil and Gas Lease Sale 206 (2008) Environmental Assessment (EA)

AGENCY: Minerals Management Service (MMS), Interior.

ACTION: Notice of Availability of an Environmental Assessment.

SUMMARY: The MMS is issuing this notice to advise the public, pursuant to the National Environmental Policy Act of 1969 (NEPA), as amended, 42 U.S.C. 4321 et seq., that the MMS has prepared an EA for proposed OCS oil and gas Lease Sale 206 in the Central GOM Planning Area (Lease Sale 206) scheduled for March 2008. The preparation of this EA is an important step in the decision process for Lease Sale 206. The proposal for Lease Sale 206 was identified by the Call for Information and Nominations published in the Federal Register on April 28, 2006, and was analyzed in the Gulf of Mexico OCS Oil and Gas Lease Sales: 2007-2012; Western Planning Area Sales 204, 207, 210, 215, and 218; Central Planning Area Sales 205, 206, 208, 213, 216, and 222—Final Environmental Impact Statement(EIS); Volumes I and II (Multisale EIS, OCS EIS/EA MMS 2007-018).

The proposal does not include approximately 5.8 million acres located in the southeastern part of the Central Planning Area which the Gulf of Mexico Energy Security Act of 2006 opened to leasing after many years of appropriations Acts containing leasing moratoria. Because of the limited geological and geophysical data available to industry and the limited environmental review for this area, the MMS has decided that it would be premature to offer this area in proposed Lease Sale 206. Before the area is offered for lease, the MMS will conduct a separate NEPA review to reevaluate the expanded CPA sale area.

This EA for proposed Lease Sale 206 reexamined the potential environmental effects of the proposed lease sale and its alternatives excluding the unleased blocks near biologically sensitive topographic features; excluding the unleased blocks within 15 miles of the Baldwin County, Alabama Coast; and no action based on any new information regarding potential impacts and issues that were not available at the time the Multisale EIS was prepared. No new significant impacts were identified for proposed Lease Sale 206 that were not already assessed in the Multisale EIS. As a result, the MMS determined that a Supplemental EIS is not required and prepared a Finding of No New Significant Impact (FONNSI).

FOR FURTHER INFORMATION CONTACT: Mr. Dennis Chew, Minerals Management Service, Gulf of Mexico OCS Region, 1201 Elmwood Park Boulevard, Mail Stop 5410, New Orleans, Louisiana 70123-2394. You may also contact Mr. Chew by telephone at (504) 736-2793.

SUPPLEMENTARY INFORMATION: In April 2007, the MMS published a Multisale EIS that addressed 11 proposed Federal actions that would offer for lease areas on the GOM OCS that may contain economically recoverable oil and gas resources. Federal regulations allow for several related or similar proposals to be analyzed in one EIS (40 CFR 1502.4). Since each proposed lease sale and its projected activities are very similar each year for each planning area, a single EIS was prepared for the 11 Western Planning Area (WPA) and CPA lease sales scheduled in the proposed OCS Oil and Gas Leasing Program: 2007-2012 (5-Year Program). The Multisale EIS addressed WPA Lease Sale 204 in 2007, Sale 207 in 2008, Sale 210 in 2009, Sale 215 in 2010, and Sale 218 in 2011; and CPA Lease Sale 205 in 2007, Sale 206 in 2008, Sale 208 in 2009, Sale 213 in 2010, Sale 216 in 2011, and Sale 222 in 2012. Although the Multisale EIS addresses 11 proposed lease sales, at the completion of the EIS process, Records of Decision were published in July and August 2007 for only proposed WPA Lease Sale 204 and proposed CPA Lease Sale 205, respectively. An additional NEPA review (an EA) was conducted for proposed Lease Sale 206 to address any new information relevant to the proposed lease sale. Additional NEPA reviews will also be conducted prior to decisions on each of the eight subsequent proposed lease sales. The purpose of these EA's is to determine whether to prepare a FONNSI or a Supplemental EIS. For each proposed lease sale, MMS prepares a Consistency Determination (CD) to determine whether the lease sale is consistent with each affected State's federally-approved coastal zone management program. Finally, MMS solicits comments via the Proposed Notice of Sale (PNOS) from the governors of the affected States on the size, timing, and location of the lease sale. The tentative schedule for the prelease decision process for Lease Sale 206 is as follows: CD's sent to affected States, October 2007; PNOS sent to governors of the affected States, October 2007; Final Notice of Sale published in the Federal Register, February 2008; and Lease Sale 206, March 2008.

Public Comments: Interested parties are requested to send comments on this EA/FONNSI by November 29, 2007. Comments may be submitted in one of the following two ways:

1. In written form enclosed in an envelope labeled “Comments on CPA Lease Sale 206 EA” and mailed (or hand carried) to the Regional Supervisor, Leasing and Environment (MS5410), Minerals Management Service, Gulf of Mexico OCS Region, 1201 Elmwood Park Boulevard, New Orleans, Louisiana 70123-2394.

2. Electronically to the MMS e-mail address: environment@mms.gov.

All comments received will be considered in the decisionmaking process for proposed Lease Sale 206.

EA Availablity: To obtain a copy of this EA, you may contact the MMS, GOM OCS Region, Attention: Public Information Office (MS 5034), 1201 Elmwood Park Boulevard, Room 114, New Orleans, Louisiana 70123-2394 (1-800-200-GULF). You may also view this EA on the MMS Web site at http://www.gomr.mms.gov/homepg/regulate/environ/nepa/nepaprocess.html.

Dated: October 1, 2007.
Chris C. Oynes,
Associate Director for Offshore Minerals Management.

[FR Doc. E7-21275 Filed 10-29-07; 8:45 am]

BILLING CODE 4310-MR-P